DEPARTMENT OF THE INTERIOR

Fish and Wildlife Service

50 CFR Part 17

[FWS-R8-ES-2007-0008; 92210-1117-0000-FY08 B4]

RIN 1018-AV07

Endangered and Threatened Wildlife and Plants; Revised Critical Habitat for the San Bernardino Kangaroo Rat (Dipodomys merriami parvus)

AGENCY: Fish and Wildlife Service, Interior.

ACTION: Proposed rule; reopening of comment period.

SUMMARY: We, the U.S. Fish and Wildlife Service (Service) announce the reopening of the public comment period on the June 19, 2007, proposed rule (72 FR 33808) to revise critical habitat for the San Bernardino kangaroo rat (Dipodomys merriami parvus) under the Endangered Species Act of 1973, as amended (Act). This action will provide all interested parties with an additional opportunity to submit written comments on the proposed revised designation, draft economic analysis (DEA), and addendum to the DEA. Comments previously submitted need not be resubmitted as they are already incorporated into the public record and will be fully considered in any final decision.

DATES: We are reopening the comment period and will accept information received or postmarked on or before August 13, 2008.

ADDRESSES: You may submit comments by one of the following methods:

• Federal eRulemaking Portal: http://www.regulations.gov. Follow the instructions for submitting comments.

• U.S. mail or hand-delivery: Public Comments Processing, Attn: FWS-R8-ES-2007-0008, Division of Policy and Directives Management, U.S. Fish and Wildlife Service, 4401 N. Fairfax Drive, Suite 222, Arlington, VA 22203. We will not accept e-mail or faxes. We will post all comments on http://www.regulations.gov. This generally means that we will post any personal information you provide us (see the Public Comments section below for more information).

FOR FURTHER INFORMATION CONTACT: Jim Bartel, Field Supervisor, U.S. Fish and Wildlife Service, Carlsbad Fish and Wildlife Office, 6010 Hidden Valley Road, Carlsbad, CA 92011; telephone 760/431-9440; facsimile 760/431-5901. If you use a telecommunications device for the deaf (TDD), call the Federal Information Relay Service (FIRS) at 800-877-8339.

SUPPLEMENTARY INFORMATION:

Public Comments

We will accept comments and information during this reopened comment period on our proposed revision to critical habitat for the San Bernardino kangaroo rat published in the Federal Register on June 19, 2007 (72 FR 33808), the additions to revised critical habitat and the notice of availability of the DEA published in the Federal Register on April 16, 2008 (73 FR 20581), and the addendum to the DEA made available to the public on the Federal eRulemaking Portal: http://www.regulations.gov on June 11, 2008. You may obtain copies of all of these documents on the Internet at http://www.regulations.gov. If you submitted comments or information previously on the proposed rule, revisions, or DEA during previous open comment periods, please do not resubmit them. These comments have been incorporated into the public record and will be fully considered in the preparation of our final determination.

You may submit your comments and materials concerning the proposed rule, DEA and the addendum to the DEA by one of the methods listed in the ADDRESSES section. We will not consider comments sent by e-mail or fax or to an address not listed in the ADDRESSES section. If you submit a comment via http://www.regulations.gov, your entire comment—including any personal identifying information—will be posted on the Web site. If you submit a hardcopy comment that includes personal identifying information, you may request at the top of your document that we withhold this information from public review. However, we cannot guarantee that we will be able to do so. We will post all hardcopy comments on http://www.regulations.gov.

Comments and materials we receive, as well as supporting documentation we used in preparing this proposed rule, will be available for public inspection on http://www.regulations.gov, or by appointment, during normal business hours, at the U.S. Fish and Wildlife Service, Carlsbad Fish and Wildlife Office (see FOR FURTHER INFORMATION CONTACT).

Background

On June 19, 2007, we published a proposed rule to revise critical habitat for the San Bernardino kangaroo rat (72 FR 33808). On April 16, 2008, we published a notice in the Federal Register (73 FR 20581) announcing the availability of the draft economic analysis and changes to the proposed revised critical habitat designation for the San Bernardino kangaroo rat. Five critical habitat units, totaling approximately 7,779 acres (3,148 hectares), are proposed as revised critical habitat for the San Bernardino kangaroo rat. These units, which generally correspond to the three units in the 2007 proposed rule plus two additional units, if finalized, would entirely replace the current critical habitat designation for the San Bernardino kangaroo rat in 50 CFR 17.95(a). The proposed critical habitat is located within San Bernardino and Riverside Counties, California. For locations of these proposed units, please consult the proposed rule. The original public comment period for the proposed critical habitat rule closed on August 20, 2007. The public comment period was reopened for 30 days upon publication of the April 16, 2008 Federal Register notice, ending on May 16, 2008. An addendum to the DEA was made available for public comment on June 11, 2008, on the Federal eRulemaking Portal: http://www.regulations.gov. Because the addendum to the DEA was not available on the Federal eRulemaking Portal during the previous comment period, we are reopening the comment period to provide all interested parties with an additional opportunity to submit written comments on the proposed revised designation, the DEA, and the addendum to the DEA.

Critical habitat is defined by the Act as:

(1) The specific areas within the geographical area occupied by the species, at the time it is listed pursuant to section 4 of the Act, on which are found those physical or biological features (a) essential to the conservation of the species, and (b) which may require special management considerations or protection, and

(2) Specific areas outside the geographic areas occupied by the species at the time it is listed, upon a determination that such areas are essential for the conservation of the species.

If the proposed critical habitat designation is finalized, section 7(a)(2) of the Act would require that Federal agencies ensure that actions they fund, authorize, or carry out are not likely to jeopardize the continued existence of the species or result in the destruction or adverse modification of critical habitat.

Section 4(b)(2) of the Act requires that we designate or revise critical habitat on the basis of the best scientific and commercial data available, after taking into consideration economic, and any other relevant, impacts of specifying any particular area as critical habitat.

Authority: The authority for this action is the Endangered Species Act of 1973 (16 U.S.C. 1531 et seq.).

Dated: July 8, 2008.
David Verhey,
Acting Assistant Secretary for Fish and Wildlife and Parks.

[FR Doc. E8-17054 Filed 7-28-08; 8:45 am]

BILLING CODE 4310-55-P